DEPARTMENT OF TRANSPORTATION

Federal Motor Carrier Safety Administration

49 CFR Parts 380, 383, and 384

[FMCSA-2007-27748]

RIN 2126-AB66

Minimum Training Requirements for Entry-Level Commercial Motor Vehicle Operators

AGENCY: Federal Motor Carrier Safety Administration (FMCSA), DOT.

ACTION: Final rule; delay of effective date.

SUMMARY: In accordance with the Presidential directive as expressed in the memorandum of January 20, 2017, from the Assistant to the President and Chief of Staff, entitled “Regulatory Freeze Pending Review,” this action temporarily delays until March 21, 2017, the effective date of the final rule titled “Minimum Training Requirements for Entry-Level Commercial Motor Vehicle Operators,” initially effective February 6, 2017, is delayed.

DATES: The effective date of the final rule published on December 8, 2016 (81 FR 88732), is delayed until March 21, 2017.

FOR FURTHER INFORMATION CONTACT: Mr. Richard Clemente, Driver and Carrier Operations (MC-PSD) Division, FMCSA, 1200 New Jersey Ave. SE., Washington, DC 20590-0001, by telephone at 202-366-4325, or by email at MCPSD@dot.gov.

SUPPLEMENTARY INFORMATION: FMCSA bases this action on the Presidential directive as expressed in the memorandum of January 20, 2017, from the Assistant to the President and Chief of Staff, entitled “Regulatory Freeze Pending Review.” That memorandum directed the heads of Executive Departments and Agencies to temporarily postpone for 60 days from the date of the memorandum the effective dates of certain regulations that had been published in the Federal Register, but had not yet taken effect. Because the original effective date of the final rule published on December 8, 2016, falls within that 60-day window, the effective date of the rule is delayed until March 21, 2017.

The Agency's implementation of this action without opportunity for public comment is based on the good cause exceptions in 5 U.S.C. 553(b)(B) and 553(d)(3), in that seeking public comment is impracticable, unnecessary and contrary to the public interest. The temporary delay in the effective date until March 21, 2017, is necessary to give Agency officials the opportunity for further review and consideration of this new regulation, consistent with the memorandum of the Assistant to the President and Chief of Staff, dated January 20, 2017. Given the imminence of the effective date of the “Minimum Training Requirements for Entry-Level Commercial Motor Vehicle Operators” final rule, seeking prior public comment on this temporary delay would have been impractical, as well as contrary to the public interest in the orderly promulgation and implementation of regulations.

The Agency may consider delaying the effective date of the above referenced regulation beyond March 21, 2017, consistent with the memorandum of the Assistant to the President and Chief of Staff.

Issued under the authority of delegation in 49 CFR 1.87 on: January 27, 2017.
John Van Steenburg,
Chief Safety Officer.

[FR Doc. 2017-02150 Filed 1-31-17; 8:45 am]

BILLING CODE 4910-EX-P